DEPARTMENT OF LABOR

Occupational Safety and Health Administration

[Docket No. OSHA-2013-0012]

Modification to the List of Appropriate NRTL Program Test Standards

AGENCY: Occupational Safety and Health Administration (OSHA), Labor.

ACTION: Notice.

SUMMARY: In this notice, OSHA announces the final decision to add a new test standard to the Nationally Recognized Testing Laboratories (NRTL) Program's list of appropriate test standards.

DATES: The actions contained in this notice will become effective on July 25, 2019.

FOR FURTHER INFORMATION CONTACT: Information regarding this notice is available from the following sources:

Press inquiries: Contact Mr. Frank Meilinger, Director, OSHA Office of Communications; telephone: (202) 693-1999; email: meilinger.francis2@dol.gov.

General and technical information: Contact Mr. Kevin Robinson, Director, Office of Technical Programs and Coordination Activities, Directorate of Technical Support and Emergency Management, Occupational Safety and Health Administration; telephone: (202) 693-2110 or email: robinson.kevin@dol.gov. OSHA's website includes information about the NRTL Program (see http://www.osha.gov/dts/otpca/nrtl/index.html).

SUPPLEMENTARY INFORMATION:

I. Background

The NRTL Program recognizes organizations that provide product-safety testing and certification services to manufacturers. These organizations perform testing and certification for purposes of the program, to U.S. consensus-based product-safety test standards. The products covered by the NRTL Program consist of those items for which OSHA safety standards require “certification” by a NRTL. The requirements affect electrical products and 38 other types of products. OSHA does not develop or issue these test standards, but generally relies on standards development organizations (SDOs), which develop and maintain the standards using a method that provides input and consideration of views of industry groups, experts, users, consumers, governmental authorities and others having broad experience in the safety field involved.

Addition of New Test Standards to the NRTL Program List of Appropriate Test Standards

Periodically, OSHA will add new test standards to the NRTL list of appropriate test standards following an evaluation of the test standard document. To qualify as an appropriate test standard, the agency evaluates the document to (1) verify it represents a product category for which OSHA requires certification by a NRTL, (2) verify the document represents an end product and not a component, and (3) verify the document defines safety test specifications (not installation or operational performance specifications). OSHA becomes aware of new test standards through various avenues. For example, OSHA may become aware of new test standards by: (1) Monitoring notifications issued by certain SDOs; (2) reviewing applications by NRTLs or applicants seeking recognition to include a new test standard in their scopes of recognition; and (3) obtaining notification from manufacturers, manufacturing organizations, government agencies, or other parties that a new test standard may be appropriate to add to the list of appropriate standards. OSHA may determine to include a new test standard in the list, for example, if the test standard is for a particular type of product that another test standard also covers, addresses a type of product that no standard previously covered, or is otherwise new to the NRTL Program.

Proposed Modification to the NRTL Program List of Appropriate NRTL Program Test Standards

In a March 14, 2019, Federal Register notice (84 FR 9384, referred to in this notice as “Proposed Modification,” and available at www.regulations.gov under Docket ID OSHA-2013-0012-0019), OSHA proposed adding one standard to the NRTL Program List of Appropriate Test Standards. OSHA received one comment on this proposed action (available at www.regulations.gov under Docket IDs OSHA-2013-0012-0022). OSHA fully considered this comment and determined that no action was necessary.

II. Final Decision To Add a New Test Standard to the NRTL Program List of Appropriate Test Standards

In this notice, OSHA announces the final decision to add one new test standard, to the NRTL Program List of Appropriate Test Standards, as described in Table 1:

Table 1—Test Standards OSHA Decided To Add to the NRTL Program List of Appropriate Test Standards
Test standard | Test standard title
ANSI/CPLSO 14-2016 | Crane Insulators.

OSHA will add this test standard to the “Appropriate Test Standards” web page on OSHA's website. Access to this web page is available at http://www.osha.gov/dts/otpca/nrtl/index.html.

III. Authority and Signature

Loren Sweatt, Acting Assistant Secretary of Labor for Occupational Safety and Health, authorized the preparation of this notice. Accordingly, the agency is issuing this notice pursuant to 29 U.S.C. 657(g)(2)), Secretary of Labor's Order No. 1-2012 (77 FR 3912, Jan. 25, 2012), and 29 CFR 1910.7.

Signed at Washington, DC, on July 19, 2019.
Loren Sweatt,
Acting Assistant Secretary of Labor for Occupational Safety and Health.

[FR Doc. 2019-15812 Filed 7-24-19; 8:45 am]

BILLING CODE 4510-26-P